DEPARTMENT OF THE INTERIOR

Fish and Wildlife Service

[FWS-R4-ES-2017-N112; FXES11130900000C2-178-FF09E32000]

Endangered and Threatened Wildlife and Plants; 5-Year Status Reviews of the Coqui Llanero, Carolina Heelsplitter, Hell Creek Cave Crayfish, Aristida chaseae, Pelos Del Diablo, Smooth Coneflower, Cooley's Meadowrue, and Louisiana Quillwort

AGENCY: Fish and Wildlife Service, Interior.

ACTION: Notice of initiation of reviews; request for information.

SUMMARY: We, the U.S. Fish and Wildlife Service (Service), are initiating 5-year status reviews of eight species under the Endangered Species Act of 1973. A 5-year review is an assessment of the best scientific and commercial data available at the time of the review. Therefore, we are requesting submission of information that has become available since the last reviews of these species.

DATES: To allow us adequate time to conduct these reviews, we must receive your comments or information on or before May 11, 2018. However, we will continue to accept new information about any listed species at any time.

ADDRESSES: For instructions on how to submit information and review information we receive on these species, see Request for New Information under SUPPLEMENTARY INFORMATION.

FOR FURTHER INFORMATION CONTACT: For species-specific information, see Request for New Information under SUPPLEMENTARY INFORMATION.

SUPPLEMENTARY INFORMATION:

Why do we conduct 5-year reviews?

Under the Endangered Species Act of 1973, as amended (16 U.S.C. 1531 et seq.; ESA), we maintain lists of endangered and threatened wildlife and plant species (referred to as the Lists) in the Code of Federal Regulations (CFR) at 50 CFR 17.11 (for wildlife) and 17.12 (for plants). Section 4(c)(2)(A) of the ESA requires us to review each listed species' status at least once every 5 years. Our regulations at 50 CFR 424.21 require that we publish a notice in the Federal Register announcing those species under active review. For additional information about 5-year reviews, go to http://www.fws.gov/endangered/what-we-do/recovery-overview.html, scroll down to “Learn More about 5-Year Reviews,” and click on our factsheet.

Species Under Review

This notice announces our active review of eight species that are currently listed as endangered:

Fish and Wildlife

Coqui llanero (Eleutherodactylus juanariveroi) (frog species)

Carolina heelsplitter (Lasmigona decorata) (freshwater mussel species)

Hell Creek Cave crayfish (Cambarus zophonastes)

Plants

Aristida chaseae (no common name)

Aristida portoricensis (Pelos del diablo)

Echinacea laevigata (Smooth coneflower)

Thalictrum cooleyi (Cooley's meadowrue)

Isoetes louisianensis (Louisiana quillwort)

What information do we consider in our review?

A 5-year review considers the best scientific and commercial data that have become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see the five factors under the heading How Do We Determine Whether A Species Is Endangered or Threatened?); and

E. Other new information, data, or corrections, including but not limited to taxonomic or nomenclatural changes, identification of erroneous information contained in the List, and improved analytical methods.

We request any new information concerning the status of any of these eight species. Information submitted should be supported by documentation such as maps, bibliographic references, methods used to gather and analyze the data, and/or copies of any pertinent publications, reports, or letters by knowledgeable sources.

Definitions

A. Species means any species or subspecies of fish, wildlife, or plant, and any distinct population segment of any species of vertebrate which interbreeds when mature.

B. Endangered means any species that is in danger of extinction throughout all or a significant portion of its range.

C. Threatened means any species that is likely to become an endangered species within the foreseeable future throughout all or a significant portion of its range.

How do we determine whether a species is endangered or threatened?

Section 4(a)(1) of the ESA requires that we determine whether a species is endangered or threatened based on one or more of the following five factors:

A. The present or threatened destruction, modification, or curtailment of its habitat or range;

B. Overutilization for commercial, recreational, scientific, or educational purposes;

C. Disease or predation;

D. The inadequacy of existing regulatory mechanisms; or

E. Other natural or manmade factors affecting its continued existence.

Request for New Information

To do any of the following, contact the person associated with the species you are interested in below:

A. To get more information on a species;

B. To submit information on a species; or

C. To review information we receive, which will be available for public inspection by appointment, during normal business hours, at the listed addresses.

Fish and Wildlife

• Coqui llanero: Jan Zegarra, by mail at the Caribbean Ecological Services Field Office, U.S. Fish and Wildlife Service, Road 301, Km. 5.1, P.O. Box 491, Boquerón, PR 00622; by fax at 787-851-7440; by phone at 787-851-7297, ext. 220; or by email at caribbean_es@fws.gov.

• Carolina heelsplitter: Morgan Wolf, by mail at the South Carolina Ecological Services Field Office, U.S. Fish and Wildlife Service, 176 Croghan Spur Road, Suite 200, Charleston, SC 29412; by fax at 843-727-4218; by phone at 843-727-4707, ext. 219; or by email at charleston_recovery@fws.gov.

• Hell Creek Cave crayfish: Mitch Wine, by mail at Arkansas Ecological Services Field Office, U.S. Fish and Wildlife Service, 110 South Amity Road, Suite 300, Conway, AR 72032; by fax at 501-513-4480; by phone at 870-269-3228; or by email at arkansas-es_recovery@fws.gov.

Plants

• Aristida chaseae and Pelos del diablo: Carlos Pacheco, by mail at the Caribbean Ecological Services Field Office, U.S. Fish and Wildlife Service, Road 301, Km. 5.1, P.O. Box 491, Boquerón, PR 00622; by fax at 787-851-7440; by phone at 787-851-7297, ext. 221; or by email at caribbean_es@fws.gov.

• Cooley's meadowrue and Smooth coneflower: Dale Suiter, by mail at the Raleigh Ecological Services Field Office, U.S. Fish and Wildlife Service, 551 Pylon Drive, #F, Raleigh, NC 27606; by fax at 919-856-4556; by phone at 919-856-4520, ext. 18; or by email at raleigh_es@fws.gov.

• Louisiana quillwort: Scott Wiggers, by mail at the Mississippi Ecological Services Field Office, U.S. Fish and Wildlife Service, 6578 Dogwood View Parkway, Jackson, MS 39213; by fax at 601-965-4340; by phone at 228-475-0765; or by email at Mississippi_field_office@fws.gov.

Public Availability of Comments

Before including your address, phone number, email address, or other personal identifying information in your comment, you should be aware that the entire comment—including your personal identifying information—may be made publicly available at any time. While you can ask us in your comment to withhold your personal identifying information from public review, we cannot guarantee that we will be able to do so.

Authority: We publish this document under the authority of the Endangered Species Act (16 U.S.C. 1531 et seq.).

Dated: March 2, 2018.
Mike Oetker,
Acting Regional Director, Southeast Region.

[FR Doc. 2018-04886 Filed 3-9-18; 8:45 am]

BILLING CODE 4333-15-P